DEPARTMENT OF THE INTERIOR

Fish and Wildlife Service

Issuance of Permit for Incidental Take of Threatened Species at Eagle's Nest Open Space, Larimer County, Colorado

AGENCY: Fish and Wildlife Service, Interior.

ACTION: Notice of issuance of permit for incidental take of endangered species.

SUMMARY: On February 27, 2004, a notice was published in the Federal Register (Vol. 69 No. 39 FR 9365), that an application had been filed with the U.S. Fish and Wildlife Service (Service) by the Larimer County Parks and Open Lands Department for a permit to incidentally take, under section 10(a)(1)(B) of the Endangered Species Act of 1973 (16 U.S.C. 1539), as amended, Preble's meadow jumping mouse (Zapus hudsonius preblei), pursuant to the terms of the “Environmental Assessment/Habitat Conservation Plan for Issuance of an Endangered Species Section 10(a)(1)(B) Permit for the Incidental Take of the Preble's Meadow Jumping Mouse (Zapus hudsonius preblei) at Eagle's Nest Open Space in Larimer County, Colorado.”

DATES: Notice is hereby given that on August 5, 2004, as authorized by the provisions of the Endangered Species Act, the Service issued a permit (TE-083409-0) to the above named party subject to certain conditions set forth therein. The permit was granted only after the Service determined that it was applied for in good faith, that granting the permit would not be to the disadvantage of the threatened species, and that it would be consistent with the purposes and policy set forth in the Endangered Species Act, as amended.

ADDRESSES: Additional information on this permit action may be requested by contacting the Colorado Field Office, 755 Parfet Street, Suite 361, Lakewood, Colorado 80215.

Dated: August 18, 2004.
John A. Blankenship,
Regional Director, Denver, Colorado.

[FR Doc. 04-19705 Filed 8-27-04; 8:45 am]

BILLING CODE 4310-55-P